DEPARTMENT OF TRANSPORTATION

Federal Aviation Administration

14 CFR Part 71

[Docket No. FAA-2022-0569; Airspace Docket No. 21-ANM-65]

RIN 2120-AA66

Proposed Amendment of Class D and Class E Airspace; Idaho Falls Regional Airport, ID

AGENCY: Federal Aviation Administration (FAA), Department of Transportation (DOT).

ACTION: Notice of proposed rulemaking (NPRM).

SUMMARY: A biennial review of the Idaho Falls Regional Airport was conducted, and it was discovered several amendments to the airport's existing airspace are needed. This action proposes to modify the Class D and E surface areas, the Class E airspace area designated as an extension to a Class D or Class E surface area, the Class E airspace extending upward from 700 feet above the surface, and the Class E airspace extending upward from 1,200 feet above the surface at Idaho Falls Regional Airport, ID. Additionally, this action proposes several administrative amendments to update the airport's legal descriptions. These actions will ensure the safety and management of instrument flight rule (IFR) and visual flight rule (VFR) operations at the airport.

DATES: Comments must be received on or before August 12, 2022.

ADDRESSES: Send comments on this proposal to the U.S. DOT, Docket Operations, 1200 New Jersey Avenue SE, West Building Ground Floor, Room W12-140, Washington, DC 20590; telephone: 1-800-647-5527, or (202) 366-9826. You must identify FAA Docket No. FAA-2022-0569; Airspace Docket No. 21-ANM-65, at the beginning of your comments. You may also submit comments through the internet at https://www.regulations.gov.

FAA Order JO 7400.11F, Airspace Designations and Reporting Points, and subsequent amendments can be viewed online at https://www.faa.gov/air_traffic/publications. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the agency's authority. This rulemaking is promulgated under the authority described in Subtitle VII, part A, subpart I, Section 40103. Under that section, the FAA is charged with prescribing regulations to assign the use of airspace necessary to ensure the safety of aircraft and the efficient use of airspace. This regulation is within the scope of that authority, as it would modify Class D and Class E airspace at Idaho Falls Regional Airport, ID, to support IFR and VFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0569; Airspace Docket No. 21-ANM-65.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S. 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying Class D and E surface areas, the Class E airspace area designated as an extension to a Class D or Class E surface area, the Class E airspace extending upward from 700 feet above the surface, and the Class E airspace extending upward from 1,200 feet above the surface at Idaho Falls Regional Airport, ID.

Class D airspace is intended to contain the point at which an aircraft executing an instrument approach procedure (IAP) can be expected to descend to less than 1,000 feet above the surface. The 1,000 foot point of the VOR RWY 3 IAP is currently outside of the lateral boundary of the airport's Class D surface area. The Class D should be extended to the southwest to contain this point. Additionally, the exclusionary language for the nearby Eastern Idaho Regional Medical Center Heliport needs to be reworded to simplify the Idaho Falls Regional Airport's Class D legal description.

The Class E surface airspace should be amended to be coincident with the Class D airspace legal description.

The Class E airspace area designated as an extension to a Class D or Class E surface area should be removed southwest of the airport. The RWY 3 VOR 1,000 foot point is proposed to be contained within the Class D surface area, and the airspace would not be needed. The Class E airspace area designated as an extension to a Class D or Class E surface area northeast of the airport is currently seven miles wide, but should have its width reduced. The extension is used to contain the VOR RWY 21 1,000 foot point, and only a 4.8 mile width is needed.

The Class E airspace extending upward from 700 feet above the surface should be removed southwest of the airport. Existing and proposed Class E airspace extending upward from 1,200 feet above the surface contains all procedure turns for the VOR RWY 3 and LOC BC RWY 3 approaches, and at least 1,500 feet exists between the highest terrain and the procedure turn altitudes. Additional Class E airspace extending upward from 700 feet above the surface is needed northeast of the airport to contain procedure turns for the ILS/LOC RWY 21 IAP, as terrain exists within 1,500 feet of the procedure turn altitude. The Class E airspace extending upward from 700 feet above the surface immediately encircling the airport needs to be expanded. This area should be increased from a 7.5-mile radius to an 8-mile radius around the airport to more appropriately contain departures and circling approaches. The existing Class E airspace extending upward from 1,200 feet above the surface over the airport consistently overlaps with adjacent airspace, creating the potential for future airspace “traps.” The FAA proposes to re-define the boundaries of this area to more appropriately align it with other airspace and simplify its legal description.

Finally, the FAA proposes several administrative modifications to the airport's legal descriptions. The geographic coordinates should be updated to match the FAA's database. The Class D and Class E2 legal descriptions should also be updated to replace the outdated use of the phrase “Notice to Airmen.” This phrase should be amended to read “Notice to Air Missions” to match the FAA's current definition of “NOTAM.” The outdated phrase “Airport/Facility Directory” in the Class D and Class E2 legal descriptions should be replaced with the phrase “Chart Supplement” to align with current FAA publication nomenclature. Lastly, all navigational aids (NAVAID) should be removed from the Class E4 and E5 legal description text headers, as they're not required to describe the airspace areas, and the removal of the NAVAIDs simplifies the legal descriptions.

Class D, E2, E4, and E5 airspace designations are published in paragraphs 5000, 6002, 6004, and 6005, respectively, of FAA Order JO 7400.11F, dated August 10, 2021, and effective September 15, 2021, which is incorporated by reference in 14 CFR 71.1. The Class D and Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT Regulatory Policies and Procedures (44 FR 11034; Feb. 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, Environmental Impacts: Policies and Procedures, prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM ID D Idaho Falls, ID [Amended]

Idaho Falls Regional Airport, ID

(Lat. 43°30′49″ N, long. 112°04′15″ W)

That airspace extending upward from the surface to and including 7,200 feet MSL within a 5.4 mile radius of the airport, and within 2.4 miles each side of the 223° bearing from the airport extending from the 5.4 mile radius to 6.6 miles southwest of the airport, excluding that airspace below 5,300 feet MSL within 1 mile each side of the 126° bearing from the airport beginning 3.4 miles southeast of the airport extending to the 5.4 mile radius of the airport. This Class D airspace area is effective during the specific dates and times established in advance by a Notice to Air Missions. The effective date and time will thereafter be continuously published in the Chart Supplement.

Paragraph 6002 Class E Airspace Designated as Surface Areas.

* * * * *

ANM ID E2 Idaho Falls, ID [Amended]

Idaho Falls Regional Airport, ID

(Lat. 43°30′49″ N, long. 112°04′15″ W)

That airspace extending upward from the surface within a 5.4 mile radius of the airport, and within 2.4 miles each side of the 223° bearing from the airport extending from the 5.4 mile radius to 6.6 miles southwest of the airport, excluding that airspace below 5,300 feet MSL within 1 mile each side of the 126° bearing from the airport beginning 3.4 miles southeast of the airport extending to the 5.4 mile radius of the airport. This Class E airspace area is effective during the specific dates and times established in advance by a Notice to Air Missions. The effective date and time will thereafter be continuously published in the Chart Supplement.

Paragraph 6004 Class E Airspace Areas Designated as an Extension to a Class D or Class E Surface Area.

* * * * *

ANM ID E4 Idaho Falls, ID [Amended]

Idaho Falls Regional Airport, ID

(Lat. 43°30′49″ N., long. 112°04′15″ W.)

That airspace extending upward from the surface within 2.4 miles each side of the 028° bearing from the airport extending from the Class D and Class E surface area 5.4 mile radius to 7.5 miles northeast of the airport.

Paragraph 6005 Class E Airspace Areas Extending Upward From 700 Feet or More Above the Surface of the Earth.

* * * * *

ANM ID E5 Idaho Falls, ID [Amended]

Idaho Falls Regional Airport, ID

(Lat. 43°30′49″ N, long. 112°04′15″ W)

That airspace extending upward from 700 feet above the surface within 8 miles of the Idaho Falls Regional Airport, and that airspace 8 miles east and 9 miles west of the 032° bearing from the airport, extending from the 8 mile radius to 28 miles northeast of the airport; and that airspace extending upward from 1,200 feet above the surface within an area bounded by a line beginning at Lat. 43°34′55″ N, long. 112°29′22″ W, to Lat. 44°19′00″ N, long. 112°04′36″ W, to Lat. 44°12′35.47″ N, long. 110°48′27.66″ W to Lat. 43°26′00″ N long. 110°57′56″ W, to Lat. 42°34′53″ N, long. 111°59”59” W, to Lat. 42°11′3.52″ N, long. 112°00′00″ W to Lat. 42°27′00″ N long 113°22′00″ W, to Lat. 42°57′33″ N long 113°32′27″ W, thence to the point of beginning.

Issued in Des Moines, Washington, on June 15, 2022.
B.G. Chew,
Acting Group Manager, Operations Support Group, Western Service Center.

[FR Doc. 2022-13611 Filed 6-27-22; 8:45 am]

BILLING CODE 4910-13-P